DEPARTMENT OF THE INTERIOR

Bureau of Land Management

[NM-922-1320-05, OKNM 104763, OKNM 107920, OKNM 108097]

Notice of Competitive Coal Lease Sale, Oklahoma

AGENCY: Bureau of Land Management, Interior.

ACTION: Notice of competitive coal lease sale.

SUMMARY: Notice is hereby given that the United States Department of the Interior, Bureau of Land Management (BLM) New Mexico State Office, in conjunction with the Oklahoma Field Office, will offer certain coal resources in three separate tracts described below in LeFlore, Latimer, and Haskell Counties in Oklahoma, for competitive sale by sealed bid, in accordance with the provisions of the Mineral Leasing Act of 1920, as amended (30 U.S.C. 181, et seq.).

DATES: The Lease Sale for the three separate tracts will be held at 10 a.m., Wednesday, September 14, 2005. Sealed bids must be submitted on or before 9 a.m., on September 14, 2005.

ADDRESSES: The Lease Sale will be held in the BLM Conference Room, Oklahoma Field Office, 7906 E. 33rd Street, Ste. 101, Tulsa, OK 74145. Sealed bids for each separate tract must be submitted to the Cashier, Oklahoma Field Office, at the address above.

FURTHER INFORMATION CONTACT: Ida T. Viarreal, Land Law Examiner, at (505) 438-7603, or Abdalla M. Elias, Mining Engineer, at (918) 621-4116.

SUPPLEMENTARY INFORMATION: This Coal Lease Sale is being held in response to three coal lease applications filed by Farrell Cooper Mining Company. Each tract will be leased to the qualified bidder(s) submitting the highest cash offer provided that the high bids meet or exceed the fair market value of the tracts as determined by the authorized officer after the Sale. No bid that is less than $100.00 per acre, or fraction thereof, will be considered. This $100.00 per acre is a regulatory minimum, and is not intended to reflect fair market value of the tracts. Each bid should be clearly identified by tract number or serial number on the outside of the envelope containing the bid(s). The bids should be sent by certified mail, return receipt requested, or should be hand delivered. The Cashier will issue a receipt for each hand delivered sealed bid. Bids received after 9 a.m., on September 14, 2005, will not be considered. If identical high sealed bids are received, the tying bidders will be requested to submit follow-up sealed bids until a high bid is received. All tie-breaking sealed bids must be submitted within 15 minutes following the Sale official's announcement at the Sale that identical sealed bids have been received.

The three coal lease tracts to be offered are:

Tract No. 1—Liberty West—OKNM 104763

The coal resource to be offered will be mined by both surface and underground mining methods in the following described lands located in Haskell County, Oklahoma:

T. 10 N., R. 21 E., I.M.,

Sec. 1, S½NE¼, and S½;

Sec. 12, NE¼NE¼, W½NE¼, and NW¼SE¼.

Containing 560.00 acres, more or less.

Estimated recoverable Federal reserves of bituminous coal from the Stigler seam is 2.057 million tons. The proximate analysis of the coal on a received basis averages 14,025 BTU/lb., with 0.58% moisture, 3.56% sulfur, 9.21% ash, 64.2% fixed carbon, and 26.7% volatile matter. This tract has four qualified surface owners. Two consent documents from qualified surface owners have been filed and verified by the BLM and meet the criteria as required by the regulations.

Tract No. 2—McCurtain No. 1 Tract—OKNM 108097

The coal resource to be offered will be mined by underground mining methods in the following described lands located in Haskell County, Oklahoma:

T. 8 N., R. 22 E., I. M.,

Sec. 8, NE¼SE¼, S½SE¼, and beginning at the south quarter corner of Section 8, T. 8 N., R. 22 E., thence N. 0° 3′ W., 1,320 feet along the east line of the SW¼ of said section, thence S. 89° 43.75′ W., 1,320.41 feet along the north line of the SE¼SW¼ of said section, thence S. 45° 10.17′ E., 1,863.45 feet to the point of beginning, all within the SE¼SW¼ of Section 8, T. 8 N., R. 22 E.;

Sec. 9, S½NE¼, SE¼NW¼; and S½;

Sec. 10, All;

Sec. 11, W½W½;

Sec. 14, NW¼;

Sec. 15, N½, and N½SW¼;

Sec. 16, N½, and beginning at the west quarter corner of Section 16, T. 8 N., R. 22 E., thence N. 89° 42′ E., 2,634.39 feet along the north line of the SW¼ of said section, thence S. 44° 46′ W., 1,868.91 feet to the NE corner of the SW¼SW¼ of said section, thence N. 45° 6.7′ W., 1,860.64 feet to the point of beginning, all within the SW¼ of Section 16, T. 8 N., R. 22 E., (40.00 acres);

Sec. 17, Beginning at the NE corner of Section 17, T. 8 N., R. 22 E., thence S. 89° 40′ W., 2,640 feet along the north line of said section, thence S. 45° 11.5′ E., 3,724.28 feet to the east quarter corner of said section, thence N. 0° 3′ W., 2,640 feet along the east line of said section to the point of beginning, all within the NE¼ of Section 17, T. 8 N., R. 22 E., (80.00 acres).

Containing 2,380.00 acres, more or less.

Estimated recoverable Federal reserves of bituminous coal from the Hartshorne seam is 10.058 million tons recoverable by underground mining methods. The proximate analysis of the coal on a received basis averages 13,320 BTU/lb., with 3.1% moisture, 0.9% sulfur, 9.8% ash, 67.4% fixed carbon, and 20.3% volatile matter.

Tract No. 3—Bull Hill—OKNM 107920

The coal resource to be offered will be mined by both surface and underground mining methods in the following described lands located in LeFlore and Latimer County, Oklahoma:

T. 5 N., R. 20 E., I.M., Latimer County, Oklahoma

Sec. 9, S½S½N½NE¼, N½S½NE¼, N½S½S½NE¼, and S½NW¼;

Sec. 10, S½S½N½N½, N½S½N½, and N½S½SW¼NW¼;

Sec. 11, S½NE¼NE¼, N½N½SE¼NE¼, S½S½NW¼NW¼, and N½SW¼NW¼;

Sec. 12, S½N½NE¼NE¼, S½NE¼NE¼, S½S½NW¼NE¼, N½S½NE¼, S½N½NW¼NW¼, S½N½NW¼, and N½N½S½NW¼.

T. 5 N., R. 21 E., I. M., Latimer County, Oklahoma

Sec. 1, S½S½NW¼SW¼, N½SW¼SW¼, and N½S½SW¼SW¼;

Sec. 2, S½N½S½SW¼, S½S½SW¼, S½S½NE¼SE¼, and S½SE¼;

Sec. 3, S½S½S½SW¼, S½S½SW¼SE¼, and S½SE¼SE¼;

Sec. 7, S½N½N½NE¼, S½N½NE¼, N½S½NE¼, S½N½NE¼NW¼, S½NE¼NW¼, N½ SE¼NW¼, and beginning at the NW corner of sec. 7, proceed 330 feet south along the west line of said section to the point of beginning. Thence 990 feet south along the west line of sec. 7 to the SW corner of lot 1, thence 1,267.37 feet, N. 89° 57.5′ E., along the south line of lot 1 to the SE corner of lot 1, thence N. 0° 3′ W., 990 feet along the east line of lot 1, thence 1,264.77 feet, S. 89° 57.875′ W., to the point of beginning. All in lot 1; Beginning at the NW corner of sec.7, proceed 1,320 feet south along the west line of said section to the point of beginning. Thence 1,267.37 feet, N. 89° 57.5′ E., along the north line of lot 2 to the NE corner of lot 2, thence 660 feet, S. 0° 3′ E., along the east line of lot 2, thence S. 89° 57.25′ W., 1,269.10 feet to the west line of lot 2, thence north along the west line of lot 2, 660 feet to the point of beginning.

All in lot 2;

Sec. 8, S½N½N½N½, and S½N½N½;

Sec. 9, N½N½;

Sec. 10, N½N½N½, N½S½NW¼NE¼, and N½S½N½NW¼.

T. 5 N., R. 22 E., I. M., LeFlore County, Oklahoma

Sec. 1, S½NW¼;

Sec. 2, SE¼NE¼.

T. 5 N., R. 23 E., I. M., LeFlore County, Oklahoma

Sec. 4, Beginning at the NW corner of sec. 4, T. 5 N., R. 23 E., thence S. 1° 58′ 33″ E., 381.48 feet along the west line of said section to the point of beginning. Thence N. 88° 9′ 25″ E., 2,632.42 feet, thence N. 88° 9′ 27″ E., 659.26 feet, thence S. 1° 58′ 33″ E., 660 feet, thence S. 88° 9′ 27″ W., 329.63 feet, thence S. 1° 58′ 33″ E., 330 feet, thence S. 88° 9′ 27″ W., 329.63 feet along the south line of lot 2, to the SW corner of lot 2, thence S. 88° 9′ 25″ W., 2,632.42 feet along the south lines of lots 3 and 4 to the SW corner of lot 4, thence N. 1° 58′ 33″ W., 990 feet along the west line of said section to the point of beginning;

Sec. 5, lots 3, 4, and beginning at the north quarter corner thence N. 88° 8′ 6″ E., 647.66 feet along the north line of said section, thence S. 2° 36′ 11″ E., 713.96 feet, thence N. 88° 3′ 48″ E., 659.9 feet, thence N. 88° 3′ 48″ E., 1,322.33 feet to a point on the east line of said section, thence S. 1° 58′ 33″ E., 660.06 feet along the east line of said section, thence S. 88° 3′ 57″ W., 2,634.89 feet, thence N. 2° 5′ 35″ W., 1,374.68 feet to the point of beginning;

Sec. 6, lots 1-5, N½SW¼NE¼, and N½SE¼NW¼.

T. 6 N., R. 23 E., I. M., LeFlore County, Oklahoma

Sec. 34, N½S½SE¼, N½S½S½SE¼, E½SW¼SW¼, S½SE¼SW¼, and S½N½SE¼SW¼;

Sec. 35, N½S½SW¼, N½SW¼SE¼, and S½S½N½SE¼;

Sec. 36, S½N½S½, and N½N½SE¼SW¼.

T. 6 N., R. 24 E., I. M., LeFlore County, Oklahoma

Sec. 31, lot 3, NE¼SW¼, N½NE¼SE¼, N½S½NE¼SE¼; and NW¼SE¼;

Sec. 32, N½N½S½, and N½ S½N½S½;

Sec. 33, N½N½ S½, and N½S½N½S½;

Sec. 34, N½N½SW¼, N½S½ N½SW¼ and N½SE ¼.

Containing 2,701.58 acres, more or less.

Estimated recoverable Federal reserves of bituminous coal from two splits of the Lower Hartshorne seam is 8.705 million tons; 3.541 million tons recoverable by surface mining methods, and 5.174 million tons recoverable by underground mining methods. The proximate analysis of the coal on a received basis averages 13,450—14,000 BTU/lb., with 2.9—4.7% moisture, 0.8—1.4% sulfur, 5.6—7.1% ash, 53.5—72.3% fixed carbon, and 17.8—35.9% volatile matter. This tract has 35 qualified surface owners and 16 unqualified surface owners. Nine consent documents from qualified surface owners have been filed and verified by the BLM and meet the criteria as required by the regulations.

The leases issued as a result of this lease offering will require payment of an annual rental of $3.00 per acre or fraction thereof, and a royalty payable to the United States of 12½ percent of the value of the coal removed from a surface mine and 8 percent of the value of the coal removed from an underground mine. The value of the coal will be determined in accordance with 30 CFR 206.250.

Bidding instructions for the offered tracts and the terms and conditions of the proposed coal lease tracts are included in the Detailed Statement of Coal Lease Sale. Copies of the Statement, which includes detailed geological information on the coal and surface owners and, surface owner's consent to surface mine specific tracts, are available upon request in person or by mail from the New Mexico State Office, 1474 Rodeo Rd., Santa Fe, NM 87502 or the Oklahoma Field Office at the address shown above. The case files are available for inspection during normal business hours only at the New Mexico State Office.

Dated: July 22, 2005.
Janice L. Gamby,
Acting State Director, New Mexico.

[FR Doc. 05-16134 Filed 8-12-05; 8:45 am]

BILLING CODE 4310-FB-P